FEDERAL COMMUNICATIONS COMMISSION

47 CFR Part 73

[DA 01-1388; MM Docket No. 01-122; RM-10130]

Radio Broadcasting Services; Hamilton, Lebanon, Ohio, Fort Thomas, Kentucky

AGENCY: Federal Communications Commission.

ACTION: Proposed rule.

SUMMARY: The Commission requests comments on a joint petition for rule making filed by Infinity Radio License, Inc., and Caron Broadcasting, requesting the reallotment of Channel 247A from Lebanon, Ohio to Fort Thomas Kentucky, as the community's first local aural transmission service, and the reallotment of Channel 243B from Hamilton to Lebanon, Ohio, to retain the community's first local aural transmission service. Petitioner is asked to provide additional information in support of the requested reallotment, specifically the independence of Fort Thomas from the Cincinnati urbanized Area and relative population gains and losses. We also seek comment on petitioners' claim that the proposal is fully spaced based on Section 73.213(a) of the Commission's Rules regarding “pre-1964” grandfathered short-spaced stations under Section 73.207 of the rules. Channel 247A can be allotted at Fort Thomas at petitioner's requested site 14.7 kilometers (9.1 miles) north of Fort Thomas. Channel 243B can be reallotted from Hamilton to Lebanon at Station WYGY(FM)'s existing site 13.9 kilometers (8.6 miles) southwest of the community. Coordinates for Channel 247A at Fort Thomas, Kentucky, are 39-11-51 NL and 84-22-56 WL. Coordinates for Channel 243B at Lebanon, Ohio, are 39-21-11 NL and 84-19-30 WL.

DATES: Comments must be filed on or before July 30, 2001, and reply comments on or before August 14, 2001.

ADDRESSES: Secretary, Federal Communications Commission, Washington, DC 20554. In addition to filing comments with the FCC, interested parties should serve the petitioners, as follows: John D. Poutasse, 2000 K Street, NW., Suite 600, Washington, DC 20006-1809 (Counsel for Infinity Radio License, Inc.); James P. Riley, Fletcher, Heald and Hildreth, 1300 N 17th Street, 11th Floor, Arlington, VA 22209-3801 (Counsel for Caron Broadcasting).

FOR FURTHER INFORMATION CONTACT: Victoria M. McCauley, Mass Media Bureau, and (202) 418-2180.

SUPPLEMENTARY INFORMATION: This is a synopsis of the Commission's Notice of Proposed Rule Making, MM Docket No. 01-122 adopted May 30, 2001 and released June 8, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Ohio, is amended by removing Channel 247A at Lebanon, adding Channel 243B at Lebanon, removing Channel 243B at Hamilton.

3. Section 73.202(b), the Table of FM Allotments under Kentucky, is amended by adding Fort Thomas, Channel 247A.

Federal Communications Commission.
John A. Karousos,
Chief, Allocations Branch, Policy and Rules Division, Mass Media Bureau.

[FR Doc. 01-15782 Filed 6-22-01; 8:45 am]

BILLING CODE 6712-01-U